DEPARTMENT OF TRANSPORTATION

Coast Guard

33 CFR Part 165

[COTP Los Angeles-Long Beach 02-003]

RIN 2115-AA97

Safety Zone; Long Beach, CA

AGENCY: Coast Guard, DOT.

ACTION: Notice of proposed rulemaking.

SUMMARY: The Coast Guard proposes to establish a temporary safety zone in the navigable waters of Long Beach, California for the National Water Ski Racing Association (NWSRA) Water Ski Race from 8 a.m. to 5 p.m. on March 23 and 24, 2002. This safety zone is necessary to provide for the safety of the crew and participants of the race and to protect the participating vessels. Persons and vessels are prohibited from entering into or transiting through this safety zone unless authorized by the Captain of the Port or his designated representative.

DATES: Comments and related material must reach the Coast Guard on or before March 6, 2002.

ADDRESSES: You may mail comments and related material to U.S. Coast Guard Marine Safety Office/Group Los Angeles-Long Beach, 1001 S. Seaside Avenue, Building 20, San Pedro, California, 90731. U.S. Coast Guard Marine Safety Office/Group Los Angeles-Long Beach maintains the public docket for this rulemaking. Comments and material received from the public, as well as documents indicated in this preamble as being available in the docket, will become part of this docket and will be available for inspection or copying at U.S. Coast Guard Marine Safety Office/Group Los Angeles-Long Beach between 8 a.m. and 4 p.m., Monday through Friday, except Federal holidays.

FOR FURTHER INFORMATION CONTACT: Boatswain's Mate 2 (BM2) Jessica Walsh, Waterways Management Division, at (310) 732-2020.

SUPPLEMENTARY INFORMATION:

Request for Comments

We encourage you to participate in this rulemaking by submitting comments and related material. You have 15 days to comment on the proposed temporary final rule. This short comment period will permit the Coast Guard to publish a temporary final rule before the event and thus help ensure public safety. To provide additional notice, we will place a notice of our proposed rule in the local notice to mariners. You may request a copy of this notice by calling BM2 Jessica Walsh, Waterways Management Division, at (310) 732-2020.

In our final rule, we will include a concise general statement of the comments received and identify any changes from the proposed rule based on the comments. If, as we expect, we make the final rule effective less than 30 days after publication in the Federal Register, we will explain our good cause for doing so as required by 5 U.S.C. 553(d)(3).

In making comments, please include your name and address, identify the docket number for this rulemaking (COTP Los Angeles-Long Beach 02-003), indicate the specific section of this document to which each comment applies, and give the reason for each comment. Please submit all comments and related material in an unbound format, no larger than 8½ by 11 inches, suitable for copying. If you would like to know your submission reached us, please enclose a stamped, self-addressed postcard or envelope. We will consider all comments and material received during the comment period. We may change this proposed rule in view of them.

Public Meeting

We do not now plan to hold a public meeting. But you may submit a request for a meeting by writing to MSO/GRU Los Angeles-Long Beach at the address under ADDRESSES explaining why one would be beneficial. If we determine that one would aid this rulemaking, we will hold one at a time and place announced by a separate notice in the Federal Register.

Background and Purpose

This temporary safety zone is needed to provide for the safety of National Water Ski Racing Association (NWSRA) Water Ski Race participants and spectators on March 23 and 24, 2002, from 8 a.m. to 5 p.m. both days. Persons and vessels are prohibited from entering into or transiting through this safety zone unless authorized by the Captain of the Port or his designated representative. By prohibiting persons and vessels from entering the waters surrounding the racecourse, the risk of high-speed collision will be significantly reduced. U.S. Coast Guard personnel will enforce this safety zone with assistance from Coast Guard Auxiliary and event staff.

Discussion of Proposed Rule

The following area will constitute the temporary safety zone: all waters encompassed by lines connecting the following points, beginning at latitude 33°45′50″ N, longitude 118°10′48″ W; thence to 33°44′00″ N, 118°10′05″ W; thence to 33°44′00″ N, 118°09′26″ W; thence to 33°45′28″ N, 118°09′00″ W, and thence returning to the point of origin. This area is approximately 3,000 yards wide and 2,500 yards long and is centered near the oil islands off Long Beach, California.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, 1979) because this zone will encompass a small portion of the waterway for limited periods of time and vessel traffic can pass safely around the affected area.

We expect the economic impact of this proposed rule to be so minimal that a full Regulatory Evaluation under paragraph 10e of the regulatory policies and procedures of DOT is unnecessary.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the proposed rule would affect your small business, organization, or governmental jurisdiction and you have questions concerning its provisions or options for compliance, please contact BM2 Jessica Walsh, Waterways Management Division, at (310) 732-2020.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this proposed rule and concluded that, under figure 2-1, paragraph (35)(g), of Commandant Instruction M16475.lD, this rule is categorically excluded from further environmental documentation because it is a safety zone in effect for only 2 days. A “Categorical Exclusion Determination” is not required.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add § 165.T11-063 to read as follows:

§ 165.T11-063 Safety Zone; Long Beach, CA.

(a) Location. The following area is a safety zone:

All waters encompassed by lines connecting the following points, beginning at latitude 33°45′50″ N, longitude 118°10′48″ W; thence to 33°44′00″ N, 118°10′05″ W; thence to 33°44′00″ N, 118°09′26″ W; thence to 33°45′28″ N, 118°09′00″ W; and thence returning to the point of origin.

(b) Effective period. This section is effective from 8 a.m. to 5 p.m. (PST) on March 23, 2002 and from 8 a.m. to 5 p.m. (PST) on March 24, 2002.

(c) Regulations. In accordance with the general regulations in § 165.23 of this part, entry into, transit through or anchoring within the safety zone is prohibited unless authorized by the Coast Guard Captain of the Port, Los Angeles-Long Beach, or his designated representative.

Dated: February 6, 2002.
J.M. Holmes,
Captain, U.S. Coast Guard, Captain of the Port, Los Angeles-Long Beach, California.

[FR Doc. 02-3928 Filed 2-15-02; 8:45 am]

BILLING CODE 4910-15-P